DEPARTMENT OF ENERGY

Federal Energy Regulatory Commission

[Docket No. CP12-29-000]

Freeport LNG Development, L.P.; Notice of Application

Take notice that on December 9, 2011, Freeport LNG Development, L.P. (Freeport LNG), filed an application pursuant to Section 3(a) of the Natural Gas Act and Parts 153 and 380 of the Commission's Regulations, requesting authorization to modify the certificated LNG facilities located on Quintana Island, Texas. The filing may also be viewed on the web at http://www.ferc.gov using the “eLibrary” link. Enter the docket number excluding the last three digits in the docket number field to access the document. For assistance, contact FERC at FERCOnlineSupport@gerc.gov or call toll-free, (886) 208-3676 or TYY, (202) 502-8659.

Freeport LNG seeks Commission authorization to modify the Phase II facilities which were certificated by the Commission Order dated September 26, 2006 in Docket No. CP05-361-000. Freeport LNG proposes the following: (1) Reorientation of the marine berthing dock, (2) elimination of one of the four authorized LNG unloading arms and, (3) reduction of the diameter of the two LNG transfer pipelines from 32-inch to 26-inch. Also, Freeport LNG proposes to construct a new approximately 7,000 foot-long access road system to facilitate access to the Phase II dock. Freeport LNG estimates to place the Phase II facilities, as modified, in service by January 2016.

Any questions regarding this application should be directed to Lisa M. Tonery, Fulbright & Jaworski L.L.P., 666 Fifth Avenue, New York, New York 10103. Telephone (212) 318-3009, fax (212) 318-3400, and email: ltonery@fulbright.com.

Any person wishing to obtain legal status by becoming a party to the proceedings for this project should, on or before the below listed comment date, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's web site under the “e-Filing” link. The Commission strongly encourages electronic filings.

Comment Date: 5 p.m. Eastern Time on January 11, 2011.

Dated: December 21, 2011.
Kimberly D. Bose,
Secretary.

[FR Doc. 2011-33313 Filed 12-28-11; 8:45 am]

BILLING CODE 6717-01-P